DEPARTMENT OF LABOR

Employment and Training Administration

[TA-W-91,920; TA-W-91,920A]

Compucom Systems, Inc., Dallas Service Desk, Dallas, Texas; Compucom Systems, Inc., Dallas Service Desk, Plano, Texas; Amended Certification Regarding Eligibility To Apply for Worker Adjustment Assistance

In accordance with Section 223 of the Trade Act of 1974 (19 U.S.C. 2273), and Section 246 of the Trade Act of 1974 (26 U.S.C. 2813), as amended, the Department of Labor issued a Certification of Eligibility to Apply for Worker Adjustment Assistance on August 5, 2016 applicable to workers and former workers of CompuCom Systems, Inc., Dallas Service Desk, Dallas, Texas (TA-W-91,920) (herein referred to as “CompuCom Systems, Inc., Dallas Service Desk”). The workers' firm is engaged in activities related to the supply of information technology services, specifically the workers are engaged in technical support services for CompuCom clients.

The State of Texas has informed the Department that the Dallas Service Desk relocated to Plano, Texas on August 5, 2016.

It is the Department's intent to accurately reflect the worker group eligible to apply for Trade Adjustment Assistance. Consequently, the amended notice applicable to TA-W-91,290 is hereby issued as follows:

“All workers of CompuCom Systems, Inc., Dallas Service Desk, Dallas, Texas (TA-W-91,920), who became totally or partially separated from employment on or after June 14, 2015 through August 4, 2016, are eligible to apply for adjustment assistance under Chapter 2 of Title II of the Trade Act of 1974, as amended” and

“All workers of CompuCom Systems, Inc., Dallas Service Desk, Plano, Texas (TA-W-91,920A), who became totally or partially separated from employment on or after August 5, 2016 through August 5, 2018, and all workers in the group threatened with total or partial separation from employment on August 5, 2016 through August 5, 2018, are eligible to apply for adjustment assistance under Chapter 2 of Title II of the Trade Act of 1974, as amended.”

Signed in Washington, DC, this 2nd day of November, 2016.
Del-Min Amy Chen,
Certifying Officer, Office of Trade Adjustment Assistance.

[FR Doc. 2016-32008 Filed 1-4-17; 8:45 am]

BILLING CODE 4510-FN-P